DEPARTMENT OF HEALTH AND HUMAN SERVICES

National Institutes of Health

National Institute of Allergy and Infectious Diseases; Notice of Closed Meetings

Pursuant to section 10(d) of the Federal Advisory Committee Act, as amended (5 U.S.C. appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Allergy and Infectious Diseases Special Emphasis Panel, National Biocontainment Laboratories.

Date: June 2-3, 2003.

Time: 8 a.m. to 5 p.m.

Agenda: To review and evaluate grant applications.

Place: Holiday Inn Georgetown, 2101 Wisconsin Avenue, NW., Washington, DC 20007.

Contact Person: Peter R. Jackson, PhD, Scientific Review Administrator, Scientific Review Program, Division of Extramural Activities, NIAID, NIH, Room 2217, 6700-B Rockledge Drive, MSC, 7616, Bethesda, MD 20892-7616, 301-496-2550.

Name of Committee: National Institute of Allergy and Infectious Diseases Special Emphasis Panel, 3 Unsolicited PO1s.

Date: June 2, 2003.

Time: 8 a.m. to 5 p.m.

Agenda: To review and evaluate grant applications.

Place: Holiday Inn Chevy Chase, 5520 Wisconsin Avenue, Chevy Chase, MD 20815.

Contact Person: Nasrin Nabavi, PhD, Scientific Review Administrator, Scientific Review Program, Division of Extramural Activities, NIAID, NIH, Room 2217, 6700-B Rockledge Drive, MSC, 7616, Bethesda, MD 20892-7616, 301-496-2550, nn30t@nih.gov.

Name of Committee: National Institute of Allergy and Infectious Diseases Special Emphasis Panel, Regional Biocontainment Laboratories.

Date: June 23-24, 2003.

Time: 8 a.m. to 5 p.m.

Agenda: To review and evaluate grant applications.

Place: Gaithersburg Marriott Washingtonian Center, 9751 Washingtonian Boulevard, Gaithersburg, MD 20878.

Contact Person: Robert C. Goldman, PhD, Scientific Review Administrator, Scientific Review Program, Division of Extramural Activities, NIAID, NIH, DHHS, Room 3124, 6700-B Rockledge Drive, MSC, 7616, Bethesda, MD 20892-7616, 301-496-8424, rg159@nih.gov.

Name of Committee: National Institute of Allergy and Infectious Diseases Special Emphasis Panel, Biodefense and Emerging Infectious Diseases Research Program Projects.

Date: June 25, 2003.

Time: 10 a.m. to 1 p.m.

Agenda: To review and evaluate grant applications and/or proposals.

Place: National Institutes of Health, Rockledge 6700, 6700-B Rockledge Drive, Room 1202, Bethesda, MD 20817 (Telephone Conference Call).

Contact Person: Paula S. Strickland, PhD, Scientific Review Administrator, Scientific Review Program, DHHS/NIH/NIAID/DEA/OD, Room 2139, 6700-B Rockledge Drive, MSC, 7616, Bethesda, MD 20892-7616, 301-435-8563, ps30f@nih.gov.

(Catalogue of Federal Domestic Assistance Program Nos. 93.855, Allergy, Immunology, and Transplantation Research; 93.856, Microbiology and Infectious Diseases Research, National Institutes of Health, HHS)
Dated: May 8, 2003.
Anna P. Snouffer,
Deputy Director, Office of Federal Advisory Committee Policy.

[FR Doc. 03-12081 Filed 5-14-03; 8:45 am]

BILLING CODE 4140-01-M